ENVIRONMENTAL PROTECTION AGENCY

[EPA-HQ-OAR-2002-0036; FRL-9272-6]

Completion of the Requirement To Promulgate Emission Standards

AGENCY: Environmental Protection Agency (EPA).

ACTION: Notice.

SUMMARY: This notice announces that EPA has completed the emission standards required by sections 112(c)(3) and (k)(3)(B) and 112(c)(6) of the Clean Air Act (CAA).

ADDRESSES: The EPA has established dockets for these two actions. The docket for EPA's action under section 112(c)(3) and (k)(3)(B) is Docket ID No. EPA-HQ-OAR-2002-0036. The docket for EPA's action under section 112(c)(6) is Docket ID No. EPA-HQ-OAR-2004-0505. All documents in the docket are listed in the Federal Docket Management System index at http://www.regulations.gov. Although listed in the index, some information is not publicly available, e.g., confidential business information or other information whose disclosure is restricted by statute. Certain other material, such as copyrighted material, is not placed on the Internet and will be publicly available only in hard copy form. Publicly available docket materials are available either electronically through www.regulations.gov or in hard copy at the EPA Docket Center, Public Reading Room, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Nathan Topham, Sector Policies and Programs Division, Office of Air Quality Planning and Standards (D243-02), Environmental Protection Agency, Research Triangle Park, North Carolina 27711; telephone number (919) 541-0483; fax number (919) 541-3207; e-mail address: topham.nathan@epa.gov.

SUPPLEMENTARY INFORMATION: Section 112(c)(3) and (k)(3)(B) of the Clean Air Act (CAA) requires that, by November 15, 2000, EPA promulgate emission standards to assure that area sources accounting for 90 percent of the aggregate area source emissions of each of the 30 urban hazardous air pollutants (HAP) are subject to regulation.¹ Similarly, section 112(c)(6) of the CAA requires that, by November 15, 2000, EPA promulgate emission standards to assure that sources accounting for not less than 90 percent of the aggregate emissions of each of the seven HAP enumerated in section 112(c)(6)are subject to standards. As a result of lawsuits filed by Sierra Club alleging that EPA has failed to complete these actions by the statutory deadline, EPA is under a court order to complete these obligations. Under the order, which was most recently amended on January 20, 2011, EPA must complete these obligations by February 21, 2011.

¹ For a list of the 30 urban HAP, please see National Air Toxics Program: The Integrate Urban Strategy, 64 FR 38706 (July 19, 1999).

The following two technical memoranda document the actions the Agency has taken to meet these requirements, Topham to Docket, Emission Standards for Meeting the 90 Percent Requirement Under Section 112(c)(3) and Section 112(k)(3)(B) of the Clean Air Act (found in Docket ID EPA-HQ-OAR-2002-0036); and Topham to Docket, Emission Standards for Meeting the 90 Percent Requirement Under Section 112(c)(6) of the Clean Air Act (found in Docket ID EPA-HQ-OAR-2004-0505). These documents are available in the dockets for these actions. Based on my review of these two documents, I conclude that EPA has completed sufficient standards to meet the 90 percent requirement under both sections 112(c)(3) and(k)(3)(B), and section 112(c)(6).

Dated: February 21, 2011.
Lisa P. Jackson,
Administrator.

[FR Doc. 2011-4489 Filed 3-18-11; 8:45 am]

BILLING CODE 6560-50-P